ENVIRONMENTAL PROTECTION AGENCY

[EPA-HQ-OPP-2017-0350; FRL-9963-80]

Pesticide Maintenance Fee: Notice of Receipt of Requests to Voluntarily Cancel Certain Pesticide Registrations

AGENCY: Environmental Protection Agency (EPA).

ACTION: Notice.

SUMMARY: In accordance with the Federal Insecticide, Fungicide, and Rodenticide Act (FIFRA), EPA is issuing a notice of receipt of requests by registrants to voluntarily cancel certain pesticide registrations. EPA intends to grant these requests at the close of the comment period for this announcement unless the Agency receives substantive comments within the comment period that would merit its further review of the requests, or unless the registrants withdraw its requests. If these requests are granted, any sale, distribution, or use of products listed in this notice will be permitted after the registrations have been cancelled only if such sale, distribution, or use is consistent with the terms as described in the final order.

DATES: Comments must be received on or before January 30, 2018.

ADDRESSES: Submit your comments, identified by docket identification (ID) number EPA-HQ-OPP-2017-0350, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

Submit written withdrawal request by mail to: Information Technology and Resources Management Division (7502P), Office of Pesticide Programs, Environmental Protection Agency, 1200 Pennsylvania Ave. NW., Washington, DC 20460-0001. ATTN: Michael Yanchulis.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION, CONTACT: Michael Yanchulis, Information Technology and Resources Managment Division (7502P), Office of Pesticide Programs, Environmental Protection Agency, 1200 Pennsylvania Ave. NW., Washington, DC 20460-0001; telephone number: (703) 347-0237; email address: yanchulis.michael@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This notice announces receipt by the Agency of requests from registrants to cancel 221 pesticide products registered under FIFRA section 3 (7 U.S.C. 136a) or 24(c) (7 U.S.C. 136v(c)). These registrations are listed in sequence by registration number (or company number and 24(c) number) in Table 1 of this unit.

Unless the Agency determines that there are substantive comments that warrant further review of the requests or the registrants withdraw their requests, EPA intends to issue an order in the Federal Register canceling all of the affected registrations.

Table 1—Registrations With Pending Requests for Cancellation
Registration No. | Company No. | Product name | Chemical name
100-598 | 100 | Profenofos Technical | Profenofos.
100-669 | 100 | Curacron 8E Insecticide-Miticide | Profenofos.
100-1411 | 100 | Enfold Insecticide | Emamectin benzoate.
264-956 | 264 | Gustafson Allegiance-LS Fungicide | Metalaxyl.
264-967 | 264 | Raxil Allegiance MD Fungicide | Metalaxyl, Tebuconazole.
264-993 | 264 | Secure Dry Insecticide | Spinosad.
264-994 | 264 | Secure II Liquid Stored Grain Insecticide | Spinosad.
264-1073 | 264 | Puma Ultra Herbicide | Fenoxaprop-p-ethyl.
264-1132 | 264 | Poncho/GB126 | Clothianidin; Bacillus firmus strain I-1582.
264-1176 | 264 | Melocon WP | Purpureocillium lilacinum strain 251.
432-757 | 432 | Tribute II XL Termiticide/insecticide Concentrate | Esfenvalerate.
432-814 | 432 | Deltamethrin 25 SC Concentrate | Deltamethrin.
432-823 | 432 | Delta 920 Dust Insecticide | Deltamethrin.
432-824 | 432 | Delta Granular | Deltamethrin.
432-897 | 432 | Aliette HG Brand Fungicide | Fosetyl-Al.
432-1252 | 432 | Maxforce Professional Insect Control Ant Killer Bait Stations | Hydramethylnon.
432-1253 | 432 | Maxforce Roach Control System Formula 18493 | Hydramethylnon.
432-1260 | 432 | Maxforce Ant Bait F3 | Fipronil.
432-1263 | 432 | Maxforce Ant Bait F2 | Fipronil.
432-1265 | 432 | Maxforce IBH11 | Hydramethylnon.
432-1301 | 432 | Tempo 20 WP In Water Soluble Packets | Cyfluthrin.
432-1303 | 432 | Tempo 1 Insecticide | beta-Cyfluthrin.
432-1305 | 432 | Tempo 10 WP In Packets | beta-Cyfluthrin.
432-1306 | 432 | Tempo 20 WP Insecticide In Water Soluble Packets | Cyfluthrin.
432-1313 | 432 | Tempo 2 TC Insecticide | Cyfluthrin.
432-1315 | 432 | Tempo 0.1% Dust Insecticide | Cyfluthrin.
432-1357 | 432 | Tempo Ultra 40 Insecticide | beta-Cyfluthrin.
432-1368 | 432 | Premise Gel Insecticide | Imidacloprid.
464-99 | 464 | Chlorine | Chlorine.
464-8131 | 464 | Aqucar Sump Buddy Pro Water Treatment Microbiocide | 2,2-Dibromo-3-nitrilopropionamide.
498-180 | 498 | Champion Sprayon Disinfectant Formula 4 | Isopropyl alcohol; o-Phenylphenol.
498-187 | 498 | Champion Sprayon Ant & Roach Killer 4 | Piperonyl butoxide; Permethrin; Tetramethrin.
524-610 | 524 | M1750 Herbicide | Glyphosate ethanolamine salt; Dicamba, diglycolamine salt.
777-105 | 777 | Lysol Brand IV I.C. Disinfectant | Quaternary ammonium compounds; Ethanol.
961-352 | 961 | Lebanon Fertilizer with Surflan | Oryzalin.
961-364 | 961 | Lebanon Fertilizer with Barricade Preemergence Weed Control (0.22%) | Prodiamine.
961-369 | 961 | Lebanon Fertilizer with Dimension (0.072%) Crabgrass Control | Dithiopyr.
1001-82 | 1001 | Bounty Turf and Ornamental Insecticide | Imidacloprid.
1001-83 | 1001 | Minx Ornamental Miticide/insecticide | Abamectin.
1812-338 | 1812 | Kocide LF | Copper hydroxide.
3432-25 | 3432 | Pool Protector Brand Pool Algaecide & Sanitizer | Quaternary ammonium compounds.
4787-33 | 4787 | Cheminova Methyl Parathion Technical | Methyl parathion.
4822-479 | 4822 | Raid Ant & Roach Killer 479 | Piperonyl butoxide; Permethrin; o-Phenylphenol; Pyrethrins.
4822-547 | 4822 | Deedee 1 | Quaternary ammonium compounds.
5383-108 | 5383 | Polyphase 662 | Carbendazim; Carbamic acid, butyl-, 3-iodo-2-propynyl ester; 1,3,5-Triazine-2,4-diamine, N-cyclopropyl-N′-(1,1-dimethylethyl)-6-(methylthio)-.
5383-161 | 5383 | Z-9 Tricosene Technical | cis-9-Tricosene.
5383-162 | 5383 | Trimedlure | 4(or 5)-Chloro-2-methylcyclohexanecarboxylic acid, 1,1-dimethylethyl ester.
5383-163 | 5383 | Disparlure Racemic | cis-7,8-Epoxy-2-methyloctadecane.
5383-168 | 5383 | Fungitrol 1075 | 1,3,5-Triazine-2,4-diamine, N-cyclopropyl-N′-(1,1-dimethylethyl)-6-(methylthio)-.
5383-173 | 5383 | Fungitrol 11-50S Fungicide | Folpet.
5383-179 | 5383 | Nuosept W | Bronopol; 5-Chloro-2-methyl-3(2H)-isothiazolone; 2-Methyl-3(2H)-isothiazolone.
5383-180 | 5383 | Nuosept W Concentrate | Bronopol; 5-Chloro-2-methyl-3(2H)-isothiazolone; 2-Methyl-3(2H)-isothiazolone.
5383-185 | 5383 | Nuosept BT10 | 1,2-Benzisothiazolin-3-one.
5383-186 | 5383 | Nuosept BMC 412 | 1,2-Benzisothiazolin-3-one; 2-Methyl-3(2H)-isothiazolone; 5-Chloro-2-methyl-3(2H)-isothiazolone.
5813-47 | 5813 | Bowl Gard Automatic Bowl Cleaner | Calcium hypochlorite.
5813-48 | 5813 | Bowl Gard II Automatic Toilet Bowl Cleaner | Calcium hypochlorite.
5813-71 | 5813 | Ultra Clorox Bleach Formula C | Sodium hypochlorite.
5813-72 | 5813 | Ultra Clorox Bleach Formula G | Sodium hypochlorite.
10088-109 | 10088 | Permicide 9% Concentrate | Permethrin.
10163-46 | 10163 | Prokil Naled Insecticide | Naled.
10163-56 | 10163 | Gowan Dimethoate E267 | Dimethoate.
10163-76 | 10163 | Gowan Wettable Sulfur | Sulfur.
10163-77 | 10163 | Gowan Dusting Sulfur | Sulfur.
10163-120 | 10163 | Gowan Trifluralin 10G | Trifluralin.
10163-141 | 10163 | Sulfur Base (for Manufacturing Use) | Sulfur.
10163-205 | 10163 | Handy Spray Betasan Crabgrass Preventer | Bensulide.
10163-249 | 10163 | Thiophanate Methyl 80 WDG | Thiophanate-methyl.
10163-262 | 10163 | Thiophanate Methyl 70-W Agricultural Fungicide | Thiophanate-methyl.
47371-158 | 47371 | PVP Iodine Solution FE-150 | Betadine.
59639-100 | 59639 | Resource 80 WP Herbicide | Flumiclorac.
59639-122 | 59639 | V-10097 Herbicide | Glyphosate-isopropylammonium; Flumiclorac.
60063-37 | 60063 | Echo 6F ETQ | Chlorothalonil.
60063-54 | 60063 | Flud-E 1SC Turf Fungicide | Fludioxonil.
66222-3 | 66222 | Pyrinex 4 EC | Chlorpyrifos.
66222-15 | 66222 | Prometryn 4L Herbicide | Prometryn.
66222-18 | 66222 | Chlorpyrifos 15G | Chlorpyrifos.
66222-38 | 66222 | Sonora 4SC | Prometon.
66222-39 | 66222 | Pramitol 4RR | Prometon.
66222-43 | 66222 | Pramitol 4 MUP | Prometon.
66222-49 | 66222 | Valuron 60 DF Herbicide | Metsulfuron.
66222-50 | 66222 | Metsulfuron Methyl 60DF Herbicide | Metsulfuron.
66222-55 | 66222 | Pramitol 2l-Diuron 2l | Diuron; Prometon.
66222-57 | 66222 | Rimon (Novaluron) 7.5 WDG | Novaluron.
66222-62 | 66222 | Thionex 50W Insecticide | Endosulfan.
66222-63 | 66222 | Thionex 3 EC Insecticide | Endosulfan.
66222-98 | 66222 | Fanfare 2EC-CAL | Bifenthrin.
66222-101 | 66222 | Bifenthrin SC Lawn and Tree Flowable Insecticide/Miticide | Bifenthrin.
66222-102 | 66222 | Bifenthrin SC Flowable Insecticide/Miticide | Bifenthrin.
66222-110 | 66222 | Prodiamine 65 WDG | Prodiamine.
66222-112 | 66222 | Folpan 80 WDG Industrial | Folpet.
66222-116 | 66222 | Cotton-Pro | Prometryn.
66222-122 | 66222 | Acephate 90 SP Cotton Insecticide | Acephate.
66222-142 | 66222 | Diuron MUP | Diuron.
66222-147 | 66222 | Nations AQ II Metsulfuron Methyl DF | Metsulfuron.
66222-148 | 66222 | Nations AQ II Metsulfuron Methyl 60 DF | Metsulfuron.
66222-153 | 66222 | Triclopyr 4 | Triclopyr, butoxyethyl ester.
66222-164 | 66222 | Vegetation Manager Metsulfuron Methyl-Turf Herbicide | Metsulfuron.
66222-165 | 66222 | Vegetation Manager Metsulfuron Methyl DF | Metsulfuron.
66222-166 | 66222 | Imazapyr 2SL | Imazapyr, isopropylamine salt.
66222-167 | 66222 | Imazapyr 4 SL | Imazapyr, isopropylamine salt.
66222-171 | 66222 | Mohave 70 EG Bareground Vegetation Control | Diuron; Imazapyr.
66222-175 | 66222 | Pyrimax 3.2 L Herbicide | Pyrithiobac-sodium.
66222-202 | 66222 | Ironclad Herbicide | Nicosulfuron; Rimsulfuron.
66222-206 | 66222 | Farmsaver.com Metsulfuron Methyl 60 DF | Metsulfuron.
66222-228 | 66222 | Pasada 1.6F | Imidacloprid.
66222-237 | 66222 | Dupont Direx 4L | Diuron.
66222-238 | 66222 | Mana Karmex XP Herbicide | Diuron.
66222-242 | 66222 | Fomesafen 2 SL | Sodium salt of fomesafen.
66222-255 | 66222 | Mana 11415 | Bifenthrin.
66222-259 | 66222 | Mana 24301 | Chlorpyrifos; Bifenthrin.
70627-37 | 70627 | Johnson Wax Professional Cockroach Gel Bait Formula 3 | Abamectin.
70627-38 | 70627 | Johnson Wax Professional Residual Insecticide | Cyfluthrin.
70627-44 | 70627 | Johnson Wax Professional Cockroach Bait Station | Abamectin.
70627-45 | 70627 | Johnson Wax Professional Fire Ant Bait | Abamectin.
70627-46 | 70627 | Johnson Wax Professional Perimeter Spray Microencapsulated Concentrate | Cyfluthrin.
AL070001 | 100 | Reward Landscape and Aquatic Herbicide | Diquat dibromide.
AL110002 | 100 | Heritage Fungicide | Azoxystrobin.
AL120001 | 100 | Avid 0.15 EC Miticide/Insecticide | Abamectin.
AR930001 | 71368 | Weedar 64 Broadleaf Herbicide | 2,4-D, dimethylamine salt.
AZ070011 | 71711 | ET Herbicide/Defoliant | Pyraflufen-ethyl.
AZ120002 | 228 | Nufarm Ethephon 2 Plant Growth Regulator | Ethephon.
CA020005 | 264 | Rovral Brand 4 Flowable Fungicide | Iprodione.
CA040008 | 264 | Rovral 4 Flowable Fungicide | Iprodione.
CA050001 | 264 | Rovral Brand 4 Flowable Fungicide | Iprodione.
CA060020 | 264 | Rovral Brand 4 Flowable Fungicide | Iprodione.
CA140007 | 228 | Nufarm Ethephon 2 Plant Growth Regulator | Ethephon.
CA930015 | 264 | Rovral 4 Flowable Fungicide | Iprodione.
CA970033 | 228 | Riverdale Solution Water Soluble | 2,4-D, dimethylamine salt.
CO150003 | 55146 | Gibgro 4LS | Gibberellic acid.
CO980003 | 5481 | Orthene Turf, Tree & Ornamental Sprayb WSP | Acephate.
FL110011 | 100 | Heritage Fungicide | Azoxystrobin.
FL130004 | 100 | Avid 0.15 EC Miticide/Insecticide | Abamectin.
FL890017 | 5481 | Orthene 75 S Soluble Powder | Acephate.
FL890018 | 5481 | Orthene 75 S Soluble Powder | Acephate.
FL890019 | 5481 | Orthene 75 S Soluble Powder | Acephate.
FL890022 | 5481 | Orthene 75 S Soluble Powder | Acephate.
FL940002 | 5481 | Orthene 75 S Soluble Powder | Acephate.
GA000001 | 59639 | Knack Insect Growth Regulator | Pyriproxyfen.
GA050003 | 100 | Caparol 4l | Prometryn.
GA110001 | 100 | Abound Flowable Fungicide | Azoxystrobin.
GA110005 | 352 | Dupont Coragen Insect Control | Chlorantraniliprole.
GA110007 | 100 | Avid 0.15 EC Miticide/Insecticide | Abamectin.
GA880004 | 5481 | Orthene 75 S Soluble Powder | Acephate.
GA960002 | 5481 | Orthene 75 S Soluble Powder | Acephate.
HI140001 | 61842 | Lime-Sulfur Solution | Lime sulfur.
ID980003 | 19713 | Drexel Endosulfan 3EC | Endosulfan.
IN110001 | 100 | Abound Flowable Fungicide | Azoxystrobin.
KY100003 | 100 | Quadris Flowable Fungicide | Azoxystrobin.
LA120019 | 352 | Dupont Leadoff Herbicide | Rimsulfuron; Thifensulfuron.
LA130002 | 100 | Avid 0.15 EC Miticide/Insecticide | Abamectin.
LA930001 | 71368 | Weedar 64 Broadleaf Herbicide | 2,4-D, dimethylamine salt.
LA950001 | 464 | Chlorine | Chlorine.
MA090001 | 100 | Callisto Herbicide | Mesotrione.
MD130005 | 100 | Abound Flowable Fungicide | Azoxystrobin.
ME070002 | 264 | Provado 1.6 Flowable Insecticide | Imidacloprid.
ME090003 | 100 | Callisto Herbicide | Mesotrione.
ME120003 | 228 | Nufarm Ethephon 2 Plant Growth Regulator | Ethephon.
MI140008 | 100 | Switch 62.5WG | Cyprodinil; Fludioxonil.
MI160001 | 100 | Heritage Fungicide | Azoxystrobin.
MN070001 | 55146 | Agritin | Fentin hydroxide.
MN070008 | 55146 | Agri Tin Flowable | Fentin hydroxide.
MO050004 | 100 | Caparol 4L | Prometryn.
MO120002 | 100 | Avid 0.15 EC Miticide/Insecticide | Abamectin.
MO140004 | 100 | Abound Flowable Fungicide | Azoxystrobin.
MS010003 | 71368 | Roundup Herbicide | Glyphosate-isopropylammonium.
MS120013 | 100 | Avid 0.15 EC Miticide/Insecticide | Abamectin.
MS900016 | 71368 | Weedar 64 Broad Leaf Herbicide | 2,4-D, dimethylamine salt.
MS910004 | 228 | Riverdale Weedestroy AM-40 Amine Salt | 2,4-D, dimethylamine salt.
MT060007 | 100 | Touchdown CT Herbicide | Glycine, N-(phosphonomethyl)- potassium salt.
NC110003 | 100 | Quadris Flowable Fungicide | Azoxystrobin.
NC110006 | 100 | Avid 0.15 EC Miticide/Insecticide | Abamectin.
ND030011 | 55146 | Agri Tin Water Soluble Pack | Fentin hydroxide.
ND040007 | 71368 | Nufarm Credit Systemic Extra Herbicide | Glyphosate-isopropylammonium.
ND050001 | 100 | Callisto | Mesotrione.
ND060002 | 524 | RT 3 Herbicide | Glycine, N-(phosphonomethyl)- potassium salt.
ND060003 | 100 | Touchdown CT Herbicide | Glycine, N-(phosphonomethyl)- potassium salt.
NE000002 | 264 | Rovral 4 Flowable Fungicide | Iprodione.
NE150002 | 100 | Heritage Fungicide | Azoxystrobin.
NJ130011 | 100 | Avid 0.15EC Miticide/Insecticide | Abamectin.
NM110003 | 81880 | Sandea Herbicide | Halosulfuron-methyl.
NM130002 | 100 | Avid 0.15 EC Miticide/Insecticide | Abamectin.
NM140003 | 100 | Avid 0.15 EC Miticide/Insecticide | Abamectin.
NV980001 | 100 | Agri-Mek 0.15EC | Abamectin.
OH110004 | 100 | Abound Flowable Fungicide | Azoxystrobin.
OH130003 | 100 | Avid 0.15 EC Miticide/Insecticide | Abamectin.
OK110004 | 100 | Avid 0.15 EC Miticide/Insecticide | Abamectin.
OR010034 | 5481 | Orthene 75 S Soluble Powder | Acephate.
OR010035 | 5481 | Orthene 97 Pellets | Acephate.
OR060019 | 5481 | Orthene 97 | Acephate.
OR940036 | 228 | Riverdale Weedestroy AM 40 Amine Salt | 2,4-D, dimethylamine salt.
PA110001 | 100 | Abound Flowable Fungicide | Azoxystrobin.
PA130004 | 100 | Avid 0.15 EC Miticide/Insecticide | Abamectin.
SC110003 | 100 | Avid 0.15 EC Miticide/Insecticide | Abamectin.
SC120002 | 100 | Abound Flowable Fungicide | Azoxystrobin.
TN080010 | 100 | Aatrex 4L | Atrazine.
TN110001 | 100 | Abound Flowable Fungicide | Azoxystrobin.
TN130003 | 100 | Avid 0.15 EC Miticide/Insecticide | Abamectin.
TX000005 | 5481 | Orthene 97 Pellets | Acephate.
TX110012 | 100 | Avid 0.15 EC Miticide/Insecticide | Abamectin.
TX120004 | 228 | Nufarm Ethephon 2 Plant Growth Regulator | Ethephon.
TX150003 | 100 | Heritage Fungicide | Azoxystrobin.
TX830022 | 5481 | Orthene 75 S Soluble Powder | Acephate.
TX900001 | 5481 | Orthene 75 S Soluble Powder | Acephate.
TX970011 | 5481 | Orthene 90 S | Acephate.
UT000003 | 5481 | Orthene 97 Pellets | Acephate.
VA050003 | 100 | Caparol 4l | Prometryn.
VA110001 | 100 | Abound Flowable Fungicide | Azoxystrobin.
VA130008 | 100 | Avid 0.15 EC Miticide/Insecticide | Abamectin.
VA150002 | 100 | Heritage Fungicide | Azoxystrobin.
WA050014 | 5481 | Orthene 97 | Acephate.
WA070001 | 264 | Rovral 4 Flowable Fungicide | Iprodione.
WA090022 | 5481 | Orthene 97 | Acephate.
WA110001 | 100 | Callisto Herbicide | Mesotrione.
WA120006 | 100 | Switch 62.5WG | Cyprodinil; Fludioxonil.
WA940032 | 228 | Riverdale Weedestroy AM-40 Amine Salt | 2,4-D, dimethylamine salt.
WA980012 | 19713 | Drexel Endosulfan 3EC | Endosulfan.
WI010006 | 71368 | Weedar 64 Broadleaf Herbicide | 2,4-D, dimethylamine salt.
WI060002 | 5481 | Orthene 75 S Soluble Powder | Acephate.
WI060003 | 5481 | Orthene 97 | Acephate.
WI950007 | 71368 | Weedar 64 Broadleaf Herbicide | 2,4-D, dimethylamine salt.
WY030004 | 352 | Dupont Asana XL Insecticide | Esfenvalerate.

Table 2 of this unit includes the names and addresses of record for all registrants of the products in Table 1 of this unit, in sequence by EPA company number. This number corresponds to the first part of the EPA registration numbers of the products listed in this unit.

Table 2—Registrants Requesting Voluntary Cancellation
EPA Company No. | Company name and address
100 | Syngenta Crop Protection, LLC, P.O. Box 18300, Greensboro, NC 27419.
228 | Nufarm Americas, Inc., 4020 Aerial Center Parkway, Suite 101, Morrisville, NC 27560.
264 | Bayer Cropscience LP, P.O. Box 12014, Research Triangle Park, NC 27709.
352 | E. I. Du Pont de Nemours and Company, Chestnut Run Plaza, 974 Centre Road, Wilmington, DE 19805.
432 | Bayer Environmental Science, A Division of Bayer Cropscience LP, P.O. Box 12014, Research Triangle Park, NC 27709.
464 | The Dow Chemical Co., 1501 Larkin Center Drive, 200 Larkin Center, Midland, MI 48674.
498 | Chase Products Co., P.O. Box 70, Maywood, IL 60153.
524 | Monsanto Company, 1300 I Street NW., Suite 450 East, Washington, DC 20005.
777 | Reckitt Benckiser LLC, 399 Interpace Parkway, Parsippany, NY 07054.
961 | Lebanon Seaboard Corporation, 1600 East Cumberland Street, Lebanon, PA 17042.
1001 | Cleary Chemicals, LLC, c/o Nufarm Americas, Inc., 4020 Aerial Center Parkway, Suite 101, Morrisville, NC 27560.
1812 | Griffin LLC, c/o. DuPont Crop Protection, Stine-Haskell Research Center, P.O. Box 30, Newark, DE 19714.
3432 | N. Jonas & Co., Inc., P.O. Box 425, Bensalem, PA 19020.
4787 | Cheminova A/S, c/o FMC Corporation, 1735 Market Street, Philadelphia, PA 19103.
4822 | S.C. Johnson & Son, Inc., 1525 Howe Street, Racine, WI 53403.
5383 | Troy Chemical Corp., c/o Troy Corporation, 8 Vreeland Road, Florham Park, NJ 07932.
5481 | Amvac Chemical Corporation, 4695 MacArthur Court, Suite 1200, Newport Beach, CA 92660.
5813 | The Clorox Co., c/o PS&RC, P.O. Box 493, Pleasanton, CA 94566.
10088 | Athea Laboratories Inc., P.O. Box 240014, Milwaukee, WI 53224.
10163 | Gowan Company, P.O. Box 5569, Yuma, AZ 85366.
19713 | Drexel Chemical Company, P.O. Box 13327, Memphis, TN 38113.
47371 | H&S Chemicals Division, c/o Lonza Inc., 90 Boroline Road, Allendale, NJ 07401.
55146 | Nufarm Americas, Inc., 4020 Aerial Center Parkway, Suite 101, Morrisville, NC 27560.
59639 | Valent U.S.A. Corporation, 1600 Riviera Avenue, Suite 200, Walnut Creek, CA 94596.
60063 | Sipcam Agro USA, Inc., 2525 Meridian Pkwy., Suite 350, Durham, NC 27713.
61842 | Pyxis Regulatory Consulting, Inc., Agent for Tessenderlo Kerley, Inc., 4110 136th Street CT NW., Gig Harbor, WA 98332.
66222 | Makhteshim Agan of North America, Inc., D/B/A Adama, 3120 Highwoods Blvd., Suite 100, Raleigh, NC 27604.
70627 | Diversey, Inc., P.O. Box 19747, Charlotte, NC 28219.
71368 | Nufarm Americas, Inc., 4020 Aerial Center Parkway, Suite 101, Morrisville, NC 27560.
71711 | Nichino America, Inc., 4550 New Linden Hill Road, Suite 501, Wilmington, DE 19808.
81880 | Canyon Group LLC, c/o Gowan Company, 370 S. Main Street, Yuma, AZ 85364.

III. What is the Agency's authority for taking this action?

Section 6(f)(1) of FIFRA (7 U.S.C. 136d(f)(1)) provides that a registrant of a pesticide product may at any time request that any of its pesticide registrations be canceled. FIFRA further provides that, before acting on the request, EPA must publish a notice of receipt of any such request in the Federal Register. EPA will provide a 180-day comment period on the proposed requests. Thereafter, the EPA Administrator may approve such a request.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Because the Agency has identified no significant potential risk concerns associated with these pesticide products, upon cancellation of the products identified in Table 1 of Unit II., EPA anticipates allowing registrants to sell and distribute existing stocks of these products until January 15, 2018, or the date of that the cancellation notice is published in the Federal Register, whichever is later. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the canceled products.

Authority: 7 U.S.C. 136 et seq.

Dated: June 26, 2017.
Delores Barber,
Director, Information Technology and Resources Management Division, Office of Pesticide Programs.

[FR Doc. 2017-16370 Filed 8-2-17; 8:45 am]

BILLING CODE 6560-50-P